DEPARTMENT OF ENERGY

Federal Energy Regulatory Commission

[Docket No. AD18-12-000, Docket No. EL17-45-000, Docket No. ER18-370-000]

Transmission Planning Within the California Independent System Operator Corporation; California Public Utilities Commission, Northern California Power Agency, City and County of San Francisco, State Water Contractors, Transmission Agency of Northern California v. Pacific Gas and Electric Company; Southern California Edison Company; Second Supplemental Notice of Technical Conference

As announced in the Notice of Technical Conference issued on March 23, 2018, and the Supplemental Notice of Technical Conference issued on April 10, 2018 (April 10 Supplemental Notice), the Federal Energy Regulatory Commission staff will hold a technical conference on May 1, 2018, at the Commission's headquarters at 888 First Street NE, Washington, DC 20426, between 9:00 a.m. and 4:00 p.m. (Eastern Time).

The April 10 Supplemental Notice provided a list of questions that Commission staff intends to use to guide the discussion at the conference. These questions are narrowly focused on the processes used by participating transmission owners in the California Independent System Operator Corporation (CAISO) to determine which transmission-related maintenance and compliance activities/facilities, including, but not limited to, transmission-related capital additions, are subject to the CAISO Transmission Planning Process. We note that discussions at the conference may involve issues raised in proceedings that are currently pending before the Commission. These proceedings include, but are not limited to:

California Public Utilities Commission, Transmission Agency of Northern California, Sacramento Municipal Utility District, M-S-R Public Power Agency, City of Santa Clara, California, State Water Contractors, Modesto Irrigation District, and Northern California Power Agency v. Pacific Gas and Electric Company, Docket No. EL17-95-000;

Joint California Complainants v. Pacific Gas and Electric Company, Docket No. EL17-59-001;

Pacific Gas and Electric Company, Docket Nos. ER16-2320-000, -002, -003;

Pacific Gas and Electric Company, Docket No. ER17-2154-000, -001; and

Southern California Edison Company, Docket Nos. ER18-169-000, -001 and EL18-44-000, -001.

For Further Information, Please Contact Individuals Identified for Each Topic:

Technical Information: Laura Switzer, Office of Energy Markets Regulation, Federal Energy Regulatory Commission, 888 First Street NE, Washington, DC 20426, (202) 502-6231, laura.switzer@ferc.gov.

Legal Information for Docket Nos. AD18-12-000 and EL17-45-000: Linda Kizuka, Office of the General Counsel, Federal Energy Regulatory Commission, 888 First Street NE, Washington, DC 20426, (202) 502-8773, linda.kizuka@ferc.gov.

Legal Information for Docket Nos. AD18-12-000 and ER18-370-000: Susanna Ehrlich, Office of the General Counsel, Federal Energy Regulatory Commission, 888 First Street NE, Washington, DC 20426, (202) 502-6260, susanna.ehrlich@ferc.gov.

Logistical Information: Sarah McKinley, Office of External Affairs, Federal Energy Regulatory Commission, 888 First Street NE, Washington, DC 20426, (202) 502-8368, sarah.mckinley@ferc.gov.

Dated: April 25, 2018.
Kimberly D. Bose,
Secretary.

[FR Doc. 2018-09254 Filed 5-1-18; 8:45 am]

BILLING CODE 6717-01-P